DEPARTMENT OF THE TREASURY

Fiscal Service

Surety Companies Acceptable on Federal Bonds: Name Change and Change in State of Incorporation—National Grange Mutual Insurance Company

AGENCY: Financial Management Service, Fiscal Service, Department of the Treasury.

ACTION: Notice.

SUMMARY: This is Supplement No. 13 to the Treasury Department Circular 570, 2005 Revision, published July 1, 2005, at 70 FR 38502.

FOR FURTHER INFORMATION CONTACT: Surety Bond Branch at (202) 874-6850.

SUPPLEMENTARY INFORMATION: National Grange Mutual Insurance Company, a New Hampshire corporation, has formally changed its name to NGM Insurance Company, effective October 27, 2005, and has redomesticated from the state of New Hampshire to the state of Florida effective June 6, 2005. The Company was last listed as an acceptable surety on Federal bonds at 70 FR 38529, July 1, 2005.

A Certificate of Authority as an acceptable surety on Federal bonds, dated today, is hereby issued under Sections 9304 to 9308 of Title 31 of the United States Code, to NGM Insurance Company, Jacksonville, Florida. This new Certificate replaces the Certificate of Authority issued to the Company under its former name. The underwriting limitation of $34,890,000 established for the Company as of July 1, 2005, remains unchanged until June 30, 2006. Federal bond-approving officers should annotate their reference copies of the Treasury Circular 570, 2005 revision, on page 38529 to reflect this change.

The Circular may be viewed and downloaded through the Internet at http://www.fms.treas.gov/c570/index.html. A hard copy may be purchased from the Government Printing Office (GPO), Subscription Service, Washington, DC, telephone (202) 512-1800. When ordering the Circular from GPO, use the following stock number: 769-004-05219-0.

Questions concerning this notice may be directed to the U.S. Department of the Treasury, Financial Management Service, Financial Accounting and Services Division, Surety Bond Branch, 3700 East-West Highway, room 6F01, Hyattsville, MD 20782.

Dated: April 5, 2006.
Vivian L. Cooper,
Director, Financial Accounting and Services Division, Financial Management Service.

[FR Doc. 06-3543 Filed 4-12-06; 8:45 am]

BILLING CODE 4810-35-M